DEPARTMENT OF DEFENSE

Defense Acquisition Regulations System

Commercial Item Handbook

AGENCY: Defense Acquisition Regulations System, Department of Defense (DoD).

ACTION: Request for public input.

SUMMARY: DoD is in the process of updating its Commercial Item Handbook. The purpose of the Handbook is to help acquisition personnel develop sound business strategies for procuring commercial items. DoD is seeking industry input on the contents of the draft Handbook.

DATES: Submit written comments to the address shown below on or before July 31, 2009.

ADDRESSES: Submit comments to: Office of the Director, Defense Procurement and Acquisition Policy, Attn: OUSD(AT&L)DPAP(CPIC), 3060 Defense Pentagon, Washington, DC 20301-3060. Comments also may be submitted by e-mail to CI_Handbook@osd.mil.

FOR FURTHER INFORMATION CONTACT: Ms. Linda Heartley, by telephone at 703-695-7062, or by e-mail at Linda.Heartley@osd.mil.

SUPPLEMENTARY INFORMATION: DoD formed a working group, consisting of personnel from the military departments and defense agencies, to update the Commercial Item Handbook issued by the Office of the Secretary of Defense (Acquisition, Technology, and Logistics) in November 2001. A draft of the updated Commercial Item Handbook can be found at http://www.acq.osd.mil/dpap/cpic/cp/docs/draftcihandbook_06172009.doc. DoD is seeking industry input on the contents of the draft Handbook.

Michele P. Peterson,
Editor, Defense Acquisition Regulations System.

[FR Doc. E9-15486 Filed 6-30-09; 8:45 am]

BILLING CODE 5001-08-P